DEPARTMENT OF TRANSPORTATION

Federal Aviation Administration

Commercial Space Transportation Advisory Committee: Notice of Public Meeting

AGENCY: Federal Aviation Administration, Department of Transportation.

ACTION: Notice of public meeting.

SUMMARY: This notice announces a meeting of the Commercial Space Transportation Advisory Committee for March 23, 2021.

DATES: The March 23, 2021 meeting will be held from 9:30 a.m. to 4:00 p.m.

Requests to attend the meeting must be received by March 9, 2021.

Requests for accommodations to a disability must be received by March 16, 2021.

Requests to speak during the meeting must be submitted by March 9, 2021 to DOT and include a written copy of their remarks. Registrants in the Zoom meeting room will have the opportunity to interact directly with committee members.

Requests to submit written materials to be reviewed during the meeting must be received by DOT no later than March 9, 2021.

ADDRESSES: The March 23, 2021 meeting will be an internet-only meeting. No physical meeting is planned. Instructions on how to attend the meeting, copies of meeting minutes, and a detailed agenda will be posted on the COMSTAC website at: https://www.faa.gov/space/additional_information/comstac/.

FOR FURTHER INFORMATION CONTACT: James Hatt, Designated Federal Officer, U.S. Department of Transportation, at james.a.hatt@faa.gov, (202) 549-2325. Any committee related request should be sent to the person listed in this section.

SUPPLEMENTARY INFORMATION:

I. Background

The Commercial Space Transportation Advisory Committee was created under the Federal Advisory Committee Act (FACA), in accordance with Public Law 92-463. Since its inception, industry-led COMSTAC has provided information, advice, and recommendations to the U.S. Department of Transportation through FAA regarding technology, business, and policy issues relevant to oversight of the U.S. commercial space transportation sector.

II. Proposed Agenda

DOT/FAA Welcome Remarks

VIP Remarks

FAA Updates

Review of Taskers Assigned at Previous Meetings/COMSTAC Final Recommendations

Public Comment

Future COMSTAC Business

III. Public Participation

The meeting listed in this notice will be open to the public. The US Department of Transportation is committed to providing equal access to this meeting for all participants. If you need alternative formats or services because of a disability, such as sign language, interpretation, or other ancillary aids, please contact the person listed in the FOR FURTHER INFORMATION CONTACT section.

There will be at least thirty minutes allotted for oral comments from members of the public joining a COMSTAC meeting. To accommodate as many speakers as possible, the time for each commenter may be limited. Individuals wishing to reserve speaking time during the meeting must submit a request at the time of registration, as well as the name, address, and organizational affiliation of the proposed speaker. If the number of registrants requesting to make statements is greater than can be reasonably accommodated during the meeting, the FAA Office of Commercial Space Transportation may conduct a lottery to determine the speakers. Speakers are requested to submit a written copy of their prepared remarks for inclusion in the meeting records and for circulation to COMSTAC members. All prepared remarks submitted on time will be accepted and considered as part of the record. Any member of the public may present a written statement to the committee at any time.

Issued in Washington, DC.

* * * * *

Dated: February 10, 2021.
James A. Hatt,
Designated Federal Officer, Commercial Space Transportation Advisory Committee, Federal Aviation Administration, Department of Transportation.

[FR Doc. 2021-03082 Filed 2-16-21; 8:45 am]

BILLING CODE P